DEPARTMENT OF COMMERCE

National Oceanic and Atmospheric Administration

[RTID 0648-XC827]

Endangered and Threatened Species; Take of Anadromous Fish

AGENCY: National Marine Fisheries Service (NMFS), National Oceanic and Atmospheric Administration (NOAA), Commerce.

ACTION: Notice of receipt for one application to renew a scientific enhancement permit.

SUMMARY: Notice is hereby given that NMFS received an application from the U.S. Fish and Wildlife Service (USFWS) to renew their U.S. Endangered Species Act (ESA) Section 10(a)(1)(A) scientific enhancement permit (permit 20571-2R) for the reintroduction of Central Valley (CV) spring-run Chinook salmon to the San Joaquin River for the San Joaquin River Restoration Program. Proposed activities within the permit application are expected to affect the threatened CV spring-run Chinook salmon (Oncorhynchus tshawytscha), California Central Valley (CCV) Distinct Population Segment (DPS) of steelhead (Oncorhynchus mykiss) and the threatened Southern DPS (sDPS) of North American green sturgeon (Acipenser medirostris). The public is hereby notified the application for Permit 20571-2R is available for review and comment before NMFS either approves or disapproves the application.

DATES: Written comments on the permit application must be received at the appropriate email address (see ADDRESSES) on or before April 6, 2023.

ADDRESSES: Written comments on the permit application should be submitted to NMFS' Section 10(a)(1)(A) steelhead permit coordinator for the San Joaquin River Restoration Program, Ms. Hilary Glenn, via email (hilary.glenn@noaa.gov). The permit application is available for review online at the Authorizations and Permits for Protected Species website: https://apps.nmfs.noaa.gov/preview/preview_open_for_comment.cfm.

FOR FURTHER INFORMATION CONTACT: Ms. Hilary Glenn (email: hilary.glenn@noaa.gov; phone: 916-200-8211).

SUPPLEMENTARY INFORMATION:

Species Covered in This Notice

Threatened CV spring-run Chinook salmon (Oncorhynchus tshawytscha); Threatened CCV Distinct Population Segment of steelhead (Oncorhynchus mykiss); Threatened sDPS of North American green sturgeon (Acipenser medirostris).

Authority

Scientific research and enhancement permits are issued in accordance with Section 10(a)(1)(A) of the ESA (16 U.S.C. 1531 et. seq) and regulations governing listed fish and wildlife permits (50 CFR 222-227). NMFS issues permits based on findings that such permits (1) are applied for in good faith, (2) would not operate to the disadvantage of the listed species which are the subject of the permits, and (3) are consistent with the purposes and policies set forth in Section 2 of the ESA. Authority to take listed species is subject to conditions set forth in the permits.

This notice is provided pursuant to Section 10(c) of the ESA. NMFS will evaluate the application, associated documents, and any comment submitted to determine whether the application meets the requirements of Section 10(a) of the ESA and Federal regulations. The final permit decisions will not be made until after the end of the 30-day comment period and consideration of any comment submitted therein. NMFS will publish notice of the final action on the subject permit application in the Federal Register.

Those individuals requesting a hearing on the application listed in this notice should provide the specific reasons why a hearing on the application would be appropriate (see ADDRESSES). Such a hearing is held at the discretion of the Assistant Administrator for Fisheries, NOAA.

Permit 20571-2R

USFWS applied to renew their Section 10(a)(1)(A) scientific enhancement permit (Previous Federal Permit/Authorization: 20571) involving continued reintroduction of CV spring-run Chinook salmon to the San Joaquin River, from the Merced River confluence to Friant Dam and implementation of the San Joaquin River Restoration Program (SJRRP) in the San Joaquin River Restoration Area. The Restoration Area is 153 miles (246 km) long, from Friant Dam downstream to the San Joaquin River's confluence with the Merced River. This stretch of river crosses the California counties of Fresno, Madera and Merced. The primary objectives of this effort involve: (1) the collection of various lifestages of CV spring-run Chinook salmon from source stocks for broodstock and release into the San Joaquin River; (2) the continued release of CV spring-run Chinook salmon into the San Joaquin River; (3) the collection of returning adults for broodstock or transport; (5) the use of various types of tags and marking for the purpose of tracking and monitoring; (6) surveys of holding adults; (7) spawning and carcass surveys; (8) artificial propagation, egg-incubation, juvenile rearing, and holding of spring-run Chinook Salmon; and, (9) installation of approved nets and traps to aid in population monitoring and production. Proposed monitoring activities include: fyke nets with wing walls and fish traps, trammel nets, hand seins, handling (conducting length measurements, gender identification, tissue and scale collection, assessment of condition, checking for the presence of tags), and Passive Integrated Transponder (PIT) tagging of fish inclusive of CV spring-run Chinook salmon, CCVsteelhead, and sDPS green sturgeon.

The USFWS is requesting this permit renewal be issued for a period of 5 years, 01/01/2024 to 12/31/2028. Activities and their timing may vary depending upon conditions and SJRRP needs, but are anticipated to occur annually as follows: eggs and juveniles will be collected from source stocks September through May, juveniles will be released into the San Joaquin River intermittently October through April, adult releases into the San Joaquin River will take place intermittently February through October, returning adults (for broodstock or transport) will be collected January through October, acoustic tracking surveys will occur year-round, snorkel surveys will occur January through October, redd grates and emergence trapping will occur September through March, transport and handling of collected individuals will occur year-round as needed, and spawning, egg-incubation, juvenile rearing, and holding will occur at the Interim Facility, Salmon Conservation and Research Facility, or Satellite Incubation and Rearing Facility year-round.

The specific take numbers are outlined in the permit application but include both lethal and non-lethal take of CV spring-run Chinook salmon, non-lethal take of CCV steelhead, and non-lethal take of sDPS of green sturgeon.

This proposed scientific enhancement effort is expected to provide valuable information for the most southern extent of CV spring-run Chinook salmon, CCV steelhead, and the sDPS of green sturgeon to the SJRRP and the California Department of Fish and Wildlife's comprehensive monitoring plan for steelhead in the Central Valley, respectively. The proposed monitoring by USFWS is consistent with recommendations and objectives outlined in NMFS' Recovery Plan for Central Valley salmonids and the sDPS of green sturgeon. See the application for Permit 20571-2R for greater details on the scientific enhancement proposal and related methodology.

Dated: March 2, 2023.
Angela Somma,
Chief, Endangered Species Division, Office of Protected Resources, National Marine Fisheries Service.

[FR Doc. 2023-04667 Filed 3-6-23; 8:45 am]

BILLING CODE 3510-22-P